DEPARTMENT OF COMMERCE

International Trade Administration

[A-580-836]

Certain Cut-to-Length Carbon-Quality Steel Plate from the Republic of Korea: Rescission of Antidumping Duty Administrative Review

AGENCY: Import Administration, International Trade Administration, Department of Commerce.

SUMMARY: On March 30, 2010, in response to requests from interested parties, the Department of Commerce (the Department) published a notice of initiation of the administrative review of the antidumping duty order on certain cut-to-length carbon-quality steel plate (CTL plate) from the Republic of Korea. The period of review is February 1, 2009, through January 31, 2010. The Department is rescinding this review.

EFFECTIVE DATE: April 29, 2010.

FOR FURTHER INFORMATION CONTACT: Yang Jin Chun, AD/CVD Operations, Office 5, Import Administration, International Trade Administration, U.S. Department of Commerce, 14th Street and Constitution Avenue, NW, Washington, DC 20230; telephone: (202) 482-5760.

SUPPLEMENTARY INFORMATION:

Background

On March 30, 2010, in response to requests from interested parties, the Department initiated an administrative review of the antidumping duty order on CTL plate from the Republic of Korea for the period February 1, 2009, through January 31, 2010. See Initiation of Antidumping and Countervailing Duty Administrative Reviews and Request for Revocation in Part, 75 FR 15679, 15681 (March 30, 2010) (Initiation Notice). The two companies identified in the Initiation Notice for review were Dongkuk Steel Mill Co., Ltd. (DSM), and Hyosung Corporation (Hyosung). On March 31, 2010, DSM withdrew its request for review of its sales of merchandise subject to the order. On April 1, 2010, Hyosung withdrew its request for review of its sales of subject merchandise.

Rescission of Review

In accordance with 19 CFR 351.213(d)(1), the Department will rescind an administrative review “if a party that requested the review withdraws the request within 90 days of the date of publication of notice of initiation of the requested review.” We received letters withdrawing the requests for review of DSM and Hyosung within the 90-day time limit. We received no other requests for review of these companies. In accordance with 19 CFR 351.213(d)(1), the Department is rescinding the review with respect to CTL plate from the Republic of Korea produced and/or exported by these two companies. The Department will issue appropriate assessment instructions to U.S. Customs and Border Protection 15 days after publication of this notice.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Tariff Act of 1930, as amended, and 19 CFR 351.213(d)(4).

Dated: April 23, 2010.
Edward C. Yang,
Acting Deputy Assistant Secretary for Antidumping and Countervailing Duty Operations.

[FR Doc. 2010-10019 Filed 4-28-10; 8:45 am]

BILLING CODE 3510-DS-S